DEPARTMENT OF COMMERCE

International Trade Administration

[A-583-816]

Certain Stainless Steel Butt-Weld Pipe Fittings from Taiwan: Notice of Extension of Time Limit for Preliminary Results in Antidumping Duty Administrative Review

AGENCY: Import Administration, International Trade Administration, Department of Commerce.

EFFECTIVE DATE: February 8, 2006.

FOR FURTHER INFORMATION CONTACT: Helen Kramer or Judy Lao, AD/CVD Operations, Office 7, Import Administration, International Trade Administration, U.S. Department of Commerce, 14th Street and Constitution, NW, Washington DC 20230; telephone: (202) 482-0405 and (202) 482-7924, respectively.

SUPPLEMENTARY INFORMATION:

Background

On June 1, 2005, the Department of Commerce (“the Department”) published a notice of opportunity to request an administrative review of the antidumping order on stainless steel butt-weld pipe fittings from Taiwan for the period of review (“POR”) of June 1, 2004, through May 31, 2005. See Notice of Opportunity to Request Administrative Review of Antidumping or Countervailing Duty Order, Finding, or Suspended Investigation, 70 FR 31422 (June 1, 2005). On June 27, 2005, Flowline Division of Markovitz Enterprises, Inc. (Flowline Division), Gerlin, Inc., Shaw Alloy Piping Products, Inc., and Taylor Forge Stainless, Inc. (collectively “petitioners”) requested an antidumping duty administrative review for Ta Chen Stainless Pipe Co., Ltd. (Ta Chen), Liang Feng Stainless Steel Fitting Co., Ltd., Tru-Flow Industrial Co., Ltd., Censor International Corporation, and PFP Taiwan Co., Ltd. On June 30, 2005 Ta Chen requested an administrative review of its sales to the United States during the POR. On July 21, 2005, the Department published the notice initiating this administrative review. See Notice of Initiation of Antidumping and Countervailing Duty Administrative Reviews and Request for Revocation In Part, 70 FR 42028 (July 21, 2005). The preliminary results are currently due not later than March 2, 2006.

Extension of Time Limits for Preliminary Results

Pursuant to section 751(a)(3)(A) of the Tariff Act of 1930, as amended (“the Act”), and 19 CFR 351.213(h)(2), the Department may extend the deadline for completion of the preliminary results of a review if it determines that it is not practicable to complete the preliminary results within 245 days after the last day of the anniversary month of the date of publication of the order for which the administrative review was requested. The Department has determined it is not practicable to complete this review within the originally anticipated time limit, in accordance with section 751(a)(3)(A) of the Act and 19 CFR 351.213(h)(2), because more time is needed to analyze Ta Chen's responses to supplemental questionnaires. Therefore, the Department is extending the time limit for the preliminary results by 120 days, to not later than June 30, 2006. The deadline for the final results of this review will continue to be 120 days after publication of the preliminary results.

Dated: February 2, 2006.
Stephen Claeys,
Deputy Assistant Secretary for Import Administration.

[FR Doc. E6-1723 Filed 2-7-06; 8:45 am]

BILLING CODE 3510-DS-S